DEPARTMENT OF COMMERCE

Foreign-Trade Zones Board

[B-79-2016]

Foreign-Trade Zone (FTZ) 38—Spartanburg County, South Carolina, Authorization of Production Activity, ZF Transmissions Gray Court, LLC, (Automatic Transmission and Powertrain Subassemblies and Parts, Transmission Shafts and Cranks), Gray Court, South Carolina

On November 10, 2016, ZF Transmissions Gray Court, LLC submitted a notification of proposed production activity to the Foreign-Trade Zones (FTZ) Board for its facility within FTZ 38—Sites 20 and 25 (now designated as Subzone 38K), in Gray Court, South Carolina.

The notification was processed in accordance with the regulations of the FTZ Board (15 CFR part 400), including notice in the Federal Register inviting public comment (81 FR 83798, November 22, 2016). The FTZ Board has determined that no further review of the activity is warranted at this time. The production activity described in the notification is authorized, subject to the FTZ Act and the FTZ Board's regulations, including Section 400.14.

Dated: March 9, 2017.
Andrew McGilvray,
Executive Secretary.

[FR Doc. 2017-04974 Filed 3-13-17; 8:45 am]

BILLING CODE 3510-DS-P